DEPARTMENT OF TRANSPORTATION

Pipeline and Hazardous Materials Safety Administration

Hazardous Materials: Improving the Safety of Railroad Tank Car Transportation of Hazardous Materials

AGENCY: Pipeline and Hazardous Materials Safety Administration (PHMSA), DOT.

ACTION: Notice of public meeting.

SUMMARY: PHMSA and FRA are conducting a comprehensive review of design and operational factors that affect rail tank car safety. The two agencies invite interested persons to participate in a public meeting to address potential improvements to the design of hazardous materials tank cars that would enhance overall safety and security.

DATES: Public meeting: December 14, 2006, starting at 9 a.m. and ending at 5 p.m.

ADDRESSES: Public meeting: The meeting will be held at the Hilton Garden-Franklin Square Hotel, 815 14th Street, NW., Washington, DC 20005. For information on the facilities or to request special accommodations at the meeting, please contact Ms. Michele M. Sampson by telephone or e-mail as soon as possible.

Written Comments: Written comments, identified by Docket Number FRA-2006-25169, may be submitted by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590.

• Hand Delivery: Room PL-401 on the plaza level of the Nassif Building, 400 Seventh Street, SW., Washington, DC, between 9 a.m. and 5 p.m., Monday through Friday, except Federal holidays.

Instructions: All submissions must include the agency name and docket number for this notice. Internet users may access comments received by DOT at. Note that comments received may be posted without change to http://dms.dot.gov including any personal information provided.

FOR FURTHER INFORMATION CONTACT: Michele M. Sampson (Michele.Sampson@dot.gov), Railroad Safety Specialist, Federal Railroad Administration, 1120 Vermont Ave., NW., Washington, DC 20590 (202-493-6475) or Lucinda Henriksen (Lucinda.Henriksen@dot.gov), Trial Attorney, Office of Chief Counsel, Federal Railroad Administration, 1120 Vermont Ave., NW., Washington, DC 20590 (202-493-1345).

SUPPLEMENTARY INFORMATION: The Federal hazardous materials transportation law (Federal hazmat law, 49 U.S.C. 5101 et seq., as amended by section 1711 of the Homeland Security Act of 2002, Public Law 107-296 and Title VII of the 2005 Safe, Accountable, Flexible and Efficient Transportation Equity Act-A Legacy for Users (SAFETEA-LU)) authorizes the Secretary of the Department of Transportation (DOT) to “prescribe regulations for the safe transportation, including security, of hazardous material in intrastate, interstate, and foreign commerce.” The Secretary has delegated this authority to the Pipeline and Hazardous Materials Safety Administration (PHMSA).

The Secretary of Transportation also has authority over all areas of railroad safety (49 U.S.C. 20101 et seq.), and has delegated this authority to the Federal Railroad Administration (FRA). FRA has issued a comprehensive set of Federal regulations governing the safety of all facets of freight and passenger railroad operations (49 CFR parts 200-244). FRA inspects railroads and shippers for compliance with both FRA regulations and Hazardous Materials Regulations (HMR; 49 CFR parts 171-180). FRA also conducts research and development to enhance railroad safety.

On May 24, 2006, PHMSA and FRA published a notice of public meeting (71 FR 30019) announcing initiation of a comprehensive review of design and operational factors that affect the safety of railroad tank car transportation of hazardous materials. As indicated in the notice, PHMSA and FRA are utilizing a risk management approach to identify ways to enhance the safe transportation of hazardous materials in tank cars, including tank car design, manufacture, and requalification; operational issues such as human factors, track conditions and maintenance, wayside hazard detectors, and signals and train control systems; and emergency response. Initially, PHMSA and FRA did not intend for the review to consider security issues, in part because PHMSA and FRA have been working closely with the Transportation Security Administration on developing proposed regulations to enhance the security of rail shipments of hazardous materials. Upon further consideration, PHMSA and FRA have decided to slightly expand the topics under review to consider enhancements and improvements to railroad tank cars transporting hazardous materials that may enhance the security of these cars.

To facilitate public involvement in this review, PHMSA and FRA held a public meeting on May 31 and June 1, 2006 (see 71 FR 30019). The primary purpose of the public meeting was to surface and prioritize issues relating to the safe transportation of hazardous materials by railroad tank car. Subsequent to the meeting, FRA established a public docket (Docket No. FRA-2006-25169) to provide all interested parties with a central location to both send and review relevant information concerning the safety of railroad tank car transportation of hazardous materials (July 3, 2006; 71 FR 37974).

PHMSA and FRA have scheduled a second public meeting as part of DOT's comprehensive review. The meeting will be held on the date specified in the DATES section of this document and at the location specified in the ADDRESSES section of this document. Although DOT's review includes both tank car design and operational factors that affect railroad tank car safety, this public meeting is intended to focus on the issue of potential improvements to hazardous materials tank cars themselves.

PHMSA and FRA encourage all interested persons to participate in this meeting. The agencies intend that this meeting will provide an opportunity to build upon several issues raised in the initial public meeting. Additionally, through this meeting, the agencies intend to solicit any relevant comments, information, or data interested parties may be able to provide regarding potential enhancements or modifications to hazardous materials tank cars in order to improve the overall safety and security of hazardous materials shipments via railroad tank car. Although the agencies are interested in any comments, information, or data relevant to improving tank car design, manufacture, or requalification, the agencies specifically request data related to the following questions:

1. What new designs, materials, or structures should DOT be investigating for improved accident/derailment survivability of hazardous materials tank cars?

2. Regarding tank car top fittings—are there any design changes that would enhance the survivability of the top fittings (e.g., modifications to height or placement of valves or modifications to the protective structure that surrounds the valves)?

3. Regarding tank car puncture resistance (including the puncture resistance of the head and shell of tank cars)—are there any design, material, or manufacturing changes that could lead to improved tank car puncture resistance?

4. In addition to accident survivability, are there any other aspects of the tank cars (e.g., improved security of operating fittings, or an ability to locate cars beyond current car movement reporting systems), that could improve the overall safety and security of hazardous materials shipments via railroad tank car?

5. In addition to accident survivability, should tank cars be designed to withstand other types of extraordinary events (e.g., ballistic attack or unauthorized access to tank car valving)?

6. The hazardous materials regulations now include performance standards for coupler vertical restraint systems, pressure relief devices, tank-head puncture-resistance systems, thermal protection systems, and service equipment protection. In addition to, or instead of any other improvement made to future tank cars, are these standards adequate for future tank cars? If not, in what areas and aspects are improvements needed?

7. How should PHMSA and FRA consider risk factors in determining whether to require tank car safety and security enhancements? For example, should PHMSA and FRA consider the risk of the car/commodity pair so that improvements would first apply to the car/commodity pairs considered to have the greatest risk or for which the car/commodity pair will benefit most from the improvement? What other risk factors should be considered?

8. Would installation of bearing sensors or other on-board tracking/monitoring systems capable of monitoring, for example, tank car pressure, temperature, and safety conditions, improve the safety and security of hazardous materials shipments by railroad tank car? If so, what is the feasibility of implementing such a system on hazardous materials tank cars?

9. Would installation of electronically controlled pneumatic brake systems on tank cars improve the safety of hazardous materials shipments by railroad tank car by, for example, helping to prevent derailments and shortening stopping distances? If so, what is the feasibility of implementing such brake systems on hazardous materials tank cars?

Although PHMSA and FRA are specifically requesting comments in response to the above questions, we invite persons to comment and/or provide specific data on any other potential improvements to railroad tank cars that could lead to improving the overall safety and security of the transportation of hazardous materials by tank car. The agencies ask that commenters provide data in the most detail possible, including costs of design, installation, and maintenance. We also specifically solicit expert discussion of the issues surrounding construction of new tank cars and implementation of a retrofit requirement for any potential new requirements on the design, manufacture, or maintenance of existing tank cars.

The agencies also invite interested parties who are unable to attend the public meeting, or who otherwise desire to submit written comments or data responsive to the questions raised above, to submit any relevant information, data, or comments to the DOT Docket Management System Docket Number FRA-2006-25169. Comments may be submitted by any method noted in the ADDRESSES section above.

Issued in Washington, DC on November 13, 2006, under authority delegated in 49 CFR part 106.
Robert A. McGuire,
Associate Administrator for Hazardous Materials Safety.

[FR Doc. E6-19413 Filed 11-16-06; 8:45 am]

BILLING CODE 4910-60-P